DEPARTMENT OF COMMERCE

National Oceanic and Atmospheric Administration

[RTID 0648-XA957]

Endangered and Threatened Species; Announcement of a Recovery Planning Workshop To Inform Recovery Planning for 15 ESA Listed Indo-Pacific Coral Species

AGENCY: National Marine Fisheries Service (NMFS), National Oceanic and Atmospheric Administration (NOAA), Commerce.

ACTION: Notice.

SUMMARY: On September 10, 2014, we, NMFS, listed 15 Indo-Pacific coral species as threatened under the Endangered Species Act (ESA). We are convening a workshop to solicit facts and information from experts to help identify and guide recovery needs for these species under section 4(f) of the ESA. We will not be asking for a consensus recommendation on how to recover these species. This workshop will be open to the public.

DATES: Workshop dates and information: We will hold the recovery planning workshop for these coral species virtually over the course of four three-hour sessions in May 2021. To accommodate participants from different time zones, we will duplicate each session, as follows:

• Week 1—Session I: Recovery Introduction

○ Option A: Wednesday May 5, 8-11 a.m. Hawaii Standard Time (HST);

○ Option B: Thursday May 6, 2-5 p.m. HST.

• Week 2—Session II: Recovery Approaches

○ Option A: Wednesday May 12, 8-11 a.m. HST;

○ Option B: Thursday May 13, 2-5 p.m. HST.

• Week 3—Session III: Recovery Criteria

○ Option A: Wednesday May 19, 8-11 a.m. HST;

○ Option B: Thursday May 20, 2-5 p.m. HST.

• Week 4—Session IV: Recovery Actions

○ Option A: Wednesday May 26, 8-11 a.m. HST;

○ Option B: Thursday May 27, 2-5 p.m. HST.

RSVP date: If you plan to attend the workshop as an interested member of the public, please contact Danielle Jayewardene, NMFS Pacific Islands Regional Office (PIRO) Protected Resources Division, danielle.jayewardene@noaa.gov, 808-725-5143 no later than April 21, 2021.

FOR FURTHER INFORMATION CONTACT: Danielle Jayewardene, NMFS Pacific Islands Regional Office (PIRO) Protected Resources Division, danielle.jayewardene@noaa.gov, 808-725-5143.

SUPPLEMENTARY INFORMATION:

Background

On September 10, 2014, we, NMFS, listed 15 Indo-Pacific coral species as threatened under the Endangered Species Act (ESA)(79 FR 53851; September 10, 2014). The 15 listed species are Acropora globiceps, Acropora jacquelineae, Acropora lokani, Acropora pharaonis, Acropora retusa, Acropora rudis, Acropora speciosa, Acropora tenella, Anacropora spinosa, Euphyllia paradivisa, Isopora crateriformis, Montipora australiensis, Pavona diffluens, Porites napopora, and Seriatopora aculeata. The final listing rule describes the background of the listing action for these species and provides a summary of our conclusions regarding their status. For additional background and information about these species, the reader is referred to our species web pages (available at https://www.fisheries.noaa.gov/corals#by-species).

NMFS is required by section 4(f) of the ESA to develop and implement recovery plans for the conservation and survival of federally listed species unless the Secretary finds that such a plan will not promote the conservation of the species. Recovery means that listed species and their ecosystems are restored, and their future secured, so that the protections of the ESA are no longer necessary. The ESA specifies that recovery plans are to include (1) a description of site-specific management actions necessary to achieve the plan's goals for the conservation and survival of the species; (2) objective, measurable criteria which, when met, would result in the species being removed from the list; and (3) estimates of the time and costs required to carry out the actions and achieve the plan's conservation goals. Under section 4(f) of the ESA, public notice and an opportunity for public review and comment are also provided during recovery plan development.

This notice serves as the first public notice and opportunity for public input early in the process. Once a recovery plan has been drafted, it will be announced in the Federal Register and available on our website (see ADDRESSES section) for public review and comment before being finalized.

Recovery Planning Workshop Announcement

From Wednesday May 5, 2021 through Thursday May 27, 2021, NMFS will hold a virtual workshop in four sessions to help inform our recovery planning for these 15 coral species (see DATES section). We are inviting experts and stakeholders in specific topic areas, including the species' biology/ecology, threats to the species and the species' habitat, the recovery planning process itself, and coral and coral reef conservation and management. These experts and stakeholders will help us to identify potential actions to address the threats to the species, identify gaps in knowledge and associated research needs, as well as begin developing recovery criteria for the species. Identified experts and stakeholders include representatives of Federal and state agencies, scientific experts, and individuals from conservation partners and nongovernmental organizations.

NMFS will provide a moderator to manage the workshop as well as note takers to document input received. We are seeking facts and information; we will not be asking for consensus recommendations on how to recover these 15 coral species. NMFS will prepare a summary of the workshop, noting the main points raised by the participants.

This workshop will be open to the public, and a public comment period will be provided at the end of each session. If you plan to attend the workshop as an interested member of the public, please contact Danielle Jayewardene at the address listed above by April 21, 2021, so we can ensure sufficient online connectivity for participants and interested parties during our logistics planning.

Agenda

• May 5/May 6 Session I will focus on introducing ESA recovery planning for the listed Indo-Pacific coral species.

• May 12/May 13 Session II will focus on recovery approaches for the listed Indo-Pacific coral species.

• May 19/May 20 Session III will focus on recovery criteria for the listed Indo-Pacific coral species.

• May 26/May 27 Session IV will focus on recovery actions for the listed Indo-Pacific coral species.

The workshop is accessible to persons with disabilities. Send requests for accessibility accommodations by April 21, 2021 to Danielle Jayewardene, danielle.jayewardene@noaa.gov, 808-725-5143.

Authority: 16 U.S.C. 1531 et seq.

Dated: March 19, 2021.
Donna S. Wieting,
Director, Office of Protected Resources, National Marine Fisheries Service.

[FR Doc. 2021-06081 Filed 3-23-21; 8:45 am]

BILLING CODE 3510-22-P